FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Cerro Grande Arbitrator and Cerro Grande Claimant Questionnaires.

Type of Information Collection: New Collection.

OMB Number: 3067-New.

Abstract: The questionnaires will be used by the staff in the Alternative Dispute Resolution (ADR) Office in order to gather information on how satisfied arbitrators and claimants are with the arbitration process currently in place. The respondents filling out the questionnaires will have the opportunity to provide feedback to the ADR office. This will enable the ADR program to increase productivity, develop new program strategies, decrease paperwork, and assist with reviewing cases for fair and equal treatment.

Affected Public: Individuals or households, Business or Other For Profit, Not-For-Profit Institutions, Farms, Federal Government, State, Local or Tribal Government.

Number of Respondents: 428.

Estimated Time per Respondent: 15 minutes per questionnaire.

Estimated Total Annual Burden Hours: 215 hours.

Frequency of Response: Annually and On Occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW., Room 316, Washington, DC 20472, telephone number (202) 646-2625 or facsimile number (202) 646-3347, or e-mail InformationCollection@fema.gov.

Dated: August 26, 2002.
Reginald Trujillo,
Branch Chief, Program Services and Systems Branch, Facilities Management and Services Division, Administration and Resource Planning Directorate.

[FR Doc. 02-22431 Filed 9-3-02; 8:45 am]

BILLING CODE 6718-01-P